DEPARTMENT OF COMMERCE

Minority Business Development Agency

National Advisory Council on Minority Business Enterprises; Meeting

AGENCY: Minority Business Development Agency, U.S. Department of Commerce.

ACTION: Notice of an Open Meeting.

SUMMARY: The National Advisory Council for Minority Business Enterprise (NACMBE) will hold its second meeting to discuss the work of selected subcommittees and deliverables to fulfill the NACMBE's charter mandate.

DATES: The meeting will be held on Friday, June 24, 2011, from 9 to 11 a.m., and from 2:30 p.m. to 4:15 p.m. Central Standard Time (CST).

ADDRESSES: This meeting will be held at the Intercontinental Hotel, 2222 West Loop South, Houston, Texas 77027, Chairman Boardroom.

FOR FURTHER INFORMATION CONTACT: Demetria Gallagher, National Directors Office, Minority Business Development Agency, U.S. Department of Commerce at (202) 482-1624; e-mail: dgallagher@mbda.gov.

SUPPLEMENTARY INFORMATION:

Background: The Secretary of Commerce established the NACMBE pursuant to his discretionary authority and in accordance with the Federal Advisory Committee Act, as amended (5 U.S.C. App. 2) on April 28, 2010. The NACMBE is to provide the Secretary of Commerce with consensus advice from the private sector on a broad range of policy issues that affect minority businesses and their ability to successfully access the domestic and global marketplace.

Topics to be considered:

1. Discussion of Subcommittee topics.

2. Reports from Subcommittees.

3. Public comment period.

Public Participation: The meeting is open to the public. Public seating is limited and available on a first-come, first-served basis. Members of the public wishing to attend the meeting must notify Demetria Gallagher at the contact information above by 5 p.m. EST on Thursday, June 16, 2011, to preregister. Please specify any requests for reasonable accommodation at least five (5) business days in advance of the meeting. Last minute requests will be accepted, but may be impossible to fill. A limited amount of time, from 3:30 p.m.—4 p.m. will be available for pertinent brief oral comments from members of the public attending the meeting. Any member of the public may submit pertinent written comments concerning the NACMBE's affairs at http://www.mbda.gov/main/nacmbe-submit-comments. To be considered during the meeting, comments must be received no later than 5 p.m. EST on Wednesday, June 15, 2011, to ensure transmission to the Council prior to the meeting. Comments received after that date will be distributed to the members but may not be considered at the meeting.

This meeting is physically accessible to people with disabilities. Requests for sign language interpretation or other auxiliary aids should be directed to Demetria Gallagher, at (202) 482-1624, or dgallagher@ mbda.gov, at least five (5) days before the meeting date.

Copies of the NACMBE open meeting minutes will be available to the public upon request.

Dated: June 2, 2011.
David A. Hinson,
National Director, Minority Business Development Agency.

[FR Doc. 2011-14189 Filed 6-7-11; 8:45 am]

BILLING CODE 3510-21-P